ENVIRONMENTAL PROTECTION AGENCY

[FRL-7208-7]

Notice of Proposed de Minimis Settlements Under Section 122(g) of the Comprehensive Environmental Response, Compensation and Liability Act of 1980 (CERCLA) as Amended, 42 U.S.C. 9622(g), Great Lakes Container Corporation Superfund Site, City of St. Louis, MO, St. Louis County, MO, Docket No. CERCLA-07-2002-0124

AGENCY: Environmental Protection Agency.

ACTION: Notice.

SUMMARY: The United States Environmental Protection Agency (EPA) has entered into a de minimis administrative settlement to resolve claims against 78 de minimis parties under the Comprehensive Environmental Response, Compensation and Liability Act of 1980 (CERCLA), as amended, 42 U.S.C. 9622(g). These settlements are intended to resolve the liability of the following parties for: ACF Industries; A.O. Smith Corporation; Ashland, Inc.; Atlantic Richfield Company; Baker Petrolite; BASF Corporation; Bioproducts, Inc.; BP Products North America, Inc. (f/k/a Amoco Oil Co.); Brenntag Mid-South, Inc. (f/k/a PB&S Chemical Co., Inc.); Bristol-Meyers Squibb Company; Buckman Laboratories; Burkhart Foam, Inc.; Cerro Copper Products Company; Chart Automotive Group, Inc.; Chevron USA, Inc.; Conoco, Inc.; Consultant ubricants, Inc.; Crown Cork & Seal Company, Inc. on its own behalf and for Continental Can Co.; Daimler-Chrysler Corporation; Delano Oil Company; Dennis Chemical Company; deVan Sealants, Inc.; E.I. duPont de Nemours & Company; Energy Petroleum Company; Exxon Mobil Corporation (f/k/a Mobil Oil Company); Ford Motor Company; Fuchs Lubricants (f/k/a Century Lubricants, Inc.); Geldbach Petroleum Company, Inc.; General Motors Corp.; Great Lakes Chemical Corp.; Griffin L.L.C.; G.S. Robins and Company; Guth Lighting Systems, Division of JJI Lighting Group, Inc.; Harcros Chemicals, Inc.; Hartog Oil Company; H.B. Fuller Company; Healdton Oil Company, Inc.; Hicks Oils, Inc.; Hohn Manufacturing; Ingersoll-Rand Company (f/k/a Hussman Corporation); INX International Ink Company; Jackes-Evans Manufacturing Company; J.D. Streett & Company, Inc.; Jefferson Smurfit Corporation; Jenkin-Guerin, Inc.; Koch Materials Company; Luebbering Oil Company; Mango Distributing Company; Marathon Ashland Petroleum LLC; Marconi Data Systems (f/k/a Marsh Stencil Machine Company); Marcus Research Laboratory, Inc.; McDonnell Douglas Corporation; McKesson Corporation for its subsidiary McKesson Chemical Company; Meramec Group, Inc.; Metal Container Corporation; Mid-West Industrial Chemical Company; Minnesota Mining & Manufacturing Co.; Minwax Company for Eastman Kodak; Missouri Highways and Transportation Commission and the Missouri Department of Transportation; Missouri Paint & Varnish; MO-Tac Company; Mozel, Ellis & Everard (US Holdings), Inc.; National Steel Corporation, Granite City Division; Nestles USA, Inc.; Nuway, Inc.; The P.D. George Company; Pennzoil-Quaker State Company; Performance Polymers, Inc.; Phillips Petroleum Company; P.P.G. Industries, Inc.; The Proctor & Gamble Manufacturing Company; Schaeffer Manufacturing Company; Sequa Corporation; Sieveking, Inc.; Superior Oil Company, Inc. (a/k/a Superior Solvents & Chemicals); Texaco Group, Inc.; Transchemical, Inc.; and U.S. Polymers, Inc.

DATES: EPA will receive written comments relating to the proposed de minimis settlements by June 7, 2002.

ADDRESSES: Comments should be addressed to the Regional Administrator, United States Environmental Protection Agency, Region VII, 901 N. 5th Street, Kansas City, Kansas 66101 and should refer to: In the Matter of the Great Lakes Container Corporation Superfund Site, City of St. Louis, St. Louis County, Missouri, CERCLA Docket Nos.

FOR FURTHER INFORMATION CONTACT: Denise L. Roberts, Senior Assistant Regional Counsel, United States Environmental Protection Agency, Region VII, 901 N. 5th Street, Kansas City, Kansas 66101, (913) 551-7559.

SUPPLEMENTARY INFORMATION: The de minimis administrative settlement is intended to resolve the liability of the following parties for: ACF Industries; A.O. Smith Corporation; Ashland, Inc.; Atlantic Richfield Company; Baker Petrolite; BASF Corporation; Bioproducts, Inc.; BP Products North America, Inc. (f/k/a Amoco Oil Co.); Brenntag Mid-South, Inc. (f/k/a PB&S Chemical Co., Inc.); Bristol-Meyers Squibb Company; Buckman Laboratories; Burkhart Foam, Inc.; Cerro Copper Products Company; Chart Automotive Group, Inc.; Chevron USA, Inc.; Conoco, Inc.; Consultant Lubricants, Inc.; Crown Cork & Seal Company, Inc. on its own behalf and for Continental Can Co.; Daimler-Chrysler Corporation; Delano Oil Company; Dennis Chemical Company; deVan Sealants, Inc.; E.I. duPont de Nemours & Company; Energy Petroleum Company; Exxon Mobil Corporation (f/k/a Mobil Oil Company); Ford Motor Company; Fuchs Lubricants (f/k/a Century Lubricants, Inc.); Geldbach Petroleum Company, Inc.; General Motors Corp.; Great Lakes Chemical Corp.; Griffin L.L.C.; G.S. Robins and Company; Guth Lighting Systems, Division of JJI Lighting Group, Inc.; Harcros Chemicals, Inc.; Hartog Oil Company; H.B. Fuller Company; Healdton Oil Company, Inc.; Hicks Oils, Inc.; Hohn Manufacturing; Ingersoll-Rand Company (f/k/a Hussman Corporation); INX International Ink Company; Jackes-Evans Manufacturing Company; J.D. Streett & Company, Inc.; Jefferson Smurfit Corporation; Jenkin-Guerin, Inc.; Koch Materials Company; Luebbering Oil Company; Mango Distributing Company; Marathon Ashland Petroleum LLC; Marconi Data Systems (f/k/a Marsh Stencil Machine Company); Marcus Research Laboratory, Inc.; McDonnell Douglas Corporation; McKesson Corporation for its subsidiary McKesson Chemical Company; Meramec Group, Inc.; Metal Container Corporation; Mid-West Industrial Chemical Company; Minnesota Mining & Manufacturing Co.; Minwax Company for Eastman Kodak; Missouri Highways and Transportation Commission and the Missouri Department of Transportation; Missouri Paint & Varnish; MO-Tac Company; Mozel, Ellis & Everard (US Holdings), Inc.; National Steel Corporation, Granite City Division; Nestles USA, Inc.; Nuway, Inc.; The P.D. George Company; Pennzoil-Quaker State Company; Performance Polymers, Inc.; Phillips Petroleum Company; P.P.G. Industries, Inc.; The Proctor & Gamble Manufacturing Company; Schaeffer Manufacturing Company; Sequa Corporation; Sieveking, Inc.; Superior Oil Company, Inc. (a/k/a Superior Solvents & Chemicals); Texaco Group, Inc.; Transchemical, Inc.; and U.S. Polymers, Inc. In January 2002, Region VII entered into a de minimis administrative settlement pursuant to section 122(g) of CERCLA, 42 U.S.C. 9622(g) with 78 de minimis parties previously listed for the Great Lakes Container Corporation Superfund Site.

Great Lakes Container Corporation is a former drum reclamation company who operated at the Site from 1976 to 1985. The same business was operated as Northwestern Cooperage Company from the 1950's to 1976 and then operated as Great Lakes Container Corporation. EPA conducted time-critical removals completed in 1998 that consisted primarily of soil and drum removals. The EPA incurred costs of approximately $9,127,244.30. The hazardous substances at this Site consisted primarily of lead and polychlorinated biphenyls. Liability is based on the theory that the de minimis parties arranged for disposal of hazardous substances at the Site by shipping drums for reclamation coated with paint containing lead. The de minimis parties either admitted that they sent drums for reclamation to the Site or EPA had separate evidence to prove that de minimis parties sent drums for reclamation to the Site.

The settlements have been approved by the U.S. Department of Justice because the response costs in this matter exceed $500,000.00. Total past costs are $8,733,482.70 and future costs will include costs of litigation for recovering costs against remaining parties. This settlement is being offered to those parties who are liable for no more than one-quarter a percent (.25%) of EPA's past costs at the Site. The majority of de minimis parties are each required to pay $4,839.44 or $5,133.72 depending on whether the party was required to pay prejudgment interest. Other settlements made for six parties de minimis varied from $3,794.19 to $22,856.56 because more volume-specific information was available for them allowing EPA to refine the calculation. The amount and toxicity of hazardous substances contributed by these parties were minimal as compared to other parties' shares of hazardous substances. The EPA determined these amounts to be the de minimis parties' fair share of liability based on the amount of hazardous substances generated and disposed of at the Site and the volume of waste contributed by each of the parties. These settlements include contribution protection from lawsuits by other potentially responsible parties as provided for under Section 122(g)(5) of CERCLA, 42 U.S.C. 9622(g)(5).

The de minimis settlement provides that EPA covenants not to sue the de minimis parties for response costs at the Site or for injunctive relief pursuant to Sections 106 and 107 of CERCLA and section 7003 of the Resource Conservation and Recovery Act of 1976, as amended (RCRA), 42 U.S.C. 6973. The settlement contains a reopener clause which nullifies the covenant not to sue if any information becomes known to EPA that indicates that the parties no longer meet the criteria for a de minimis settlement set forth in Section 122(g)(1)(A) of CERCLA, 42 U.S.C. 9622(g)(1)(A). The covenant not to sue does not apply to the following matters:

(a) Claims based on a failure to make the required payment;

(b) Claims based on the future arrangement for disposal or treatment of any hazardous substance, pollutant, or contaminant at the Site after the effective date of the de minimis settlement;

(c) Criminal liability; or

(d) Liability for damages or injury to, destruction of, or loss of the natural resources and for the costs of any natural resource damage assessments.

The de minimis settlements will become effective upon the date which the EPA issues a written notice to the parties that the statutory public comment period has closed and that comments received, if any, do not require modification, of or EPA withdrawal from the settlement.

Dated: April 24, 2002.
William Rice,
Acting Regional Administrator, U.S. Environmental Protection Agency, Region VII.

[FR Doc. 02-11453 Filed 5-7-02; 8:45 am]

BILLING CODE 6560-50-P